DEPARTMENT OF LABOR

Employment and Training Administration

[TA-W-59,432]

Microtronic, Inc.; Workers Employed at Agere Systems, Inc.; Orlando, FL; Notice of Termination of Investigation

Pursuant to section 221 of the Trade Act of 1974, an investigation was initiated on May 19, 2006 in response to a worker petition filed by the Florida State Trade Coordinator on behalf of a worker of Microtronic, Inc., employed at Agere Systems, Inc., Orlando, Florida.

The worker on whose behalf the petition was filed is covered by an active certification (TA-W-58,369, as amended) which expires on December 19, 2007. Consequently, further investigation in this case would serve no purpose, and the investigation has been terminated.

Signed at Washington, DC, this 3rd day of July, 2006.
Richard Church,
Certifying Officer, Division of Trade Adjustment Assistance.

[FR Doc. E6-11862 Filed 7-24-06; 8:45 am]

BILLING CODE 4510-30-P